DEPARTMENT OF THE INTERIOR

National Park Service

[NPS-AKR-WRST; 9865-NZM]

Notice of Availability

AGENCY: National Park Service, Interior.

ACTION: Notice of availability.

SUMMARY: Notice is hereby given that pursuant to the provisions of Section 2 of the Act of Sept 28, 1976, 16 U.S.C. 1901, and in accordance with the provisions of 36 CFR 9.17, Randy Elliott has filed a proposed plan of operations to conduct mining operations on lands embracing Mineral Survey No. 923, patented mineral property within Wrangell-St. Elias National Park and Preserve.

Public Availability: This plan of operations is available for inspection during normal business hours at the following locations: Wrangell-St. Elias National Park and Preserve—Headquarters, Mile 106.8 Richardson Highway, Post Office Box 439, Copper Center, Alaska 99573.

National Park Service, Alaska Regional Office—Natural Resources Division, 240 West 5th Avenue, Anchorage, Alaska 99501.

FOR FURTHER INFORMATION CONTACT: Rick Obernesser, Superintendent, and Danny Rosenkrans, Senior Management Analyst, (907) 822-5234, Wrangell-St. Elias National Park and Preserve, PO Box 439, Copper Center, Alaska 99573.

Sue E. Masica,
Regional Director, Alaska.

[FR Doc. 2012-3962 Filed 2-17-12; 8:45 am]

BILLING CODE 4312-GY-P